INTERNATIONAL TRADE COMMISSION

[Investigation Nos. 731-TA-776-779 (Fourth Review)]

Preserved Mushrooms from Chile, China, India, and Indonesia

Determinations

On the basis of the record ¹ developed in the subject five-year reviews, the United States International Trade Commission (“Commission”) determines, pursuant to the Tariff Act of 1930 (“the Act”), that revocation of the antidumping duty orders on preserved mushrooms from Chile, China, India, and Indonesia would be likely to lead to continuation or recurrence of material injury to an industry in the United States within a reasonably foreseeable time.

¹ The record is defined in § 207.2(f) of the Commission's Rules of Practice and Procedure (19 CFR 207.2(f)).

Background

The Commission instituted these reviews on August 3, 2020 (85 FR 46725) and determined on November 6, 2020 that it would conduct expedited reviews (86 FR 7877, February 2, 2021).

The Commission made these determinations pursuant to section 751(c) of the Act (19 U.S.C. 1675(c)). It completed and filed its determinations in these reviews on March 1, 2021. The views of the Commission are contained in USITC Publication 5167 (March 2021), entitled Preserved Mushrooms from Chile, China, India, and Indonesia: Investigation Nos. 731-TA-776-779 (Fourth Review).

By order of the Commission.
Issued: March 2, 2021.
Lisa Barton,
Secretary to the Commission.

[FR Doc. 2021-04613 Filed 3-4-21; 8:45 am]

BILLING CODE 7020-02-P